DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Pacific Island Pelagic Longline Fisheries; Seabird-Fisheries Interaction Recovery Reporting.

OMB Control Number: 0648-0456.

Form Number(s): None.

Type of Request: Regular (revision and extension of a currently approved information collection).

Number of Respondents: 1.

Average Hours per Response: 3.

Burden Hours: 3.

Needs and Uses: This request is for revision and extension of a currently approved information collection.

The National Marine Fisheries Service (NMFS) requires pelagic longline vessel operators to notify NMFS in the event an endangered short-tailed albatross is hooked or entangled during fishing operations. Following the retrieval of the seabird from the ocean, as required by Federal regulations, the vessel captain must record the condition of the injured short-tailed albatross on a recovery data form. A veterinarian will use the information in providing advice to the captain caring for the short-tailed albatross. If the albatross is dead, the captain must attach an identification tag to the carcass to assist the U.S. Fish and Wildlife Service (USFWS) biologists in follow-up studies on the specimen. This collection is one of the terms and conditions contained in the biological opinion issued by USFWS, and is intended to maximize the probability of the long-term survival of short-tailed albatross accidentally taken by longline gear.

The form has been modified based on public comment.

Affected Public: Business and other for-profit organizations; individuals or households.

Frequency: On occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: June 12, 2015.
Sarah Brabson,
NOAA PRA Clearance Officer.

[FR Doc. 2015-14861 Filed 6-16-15; 8:45 am]

BILLING CODE 3510-22-P